DEPARTMENT OF EDUCATION

National Institute on Disability and Rehabilitation Research—Disability and Rehabilitation Research Projects and Centers Program—Disability Rehabilitation Research Projects (DRRPs) and Rehabilitation Engineering Research Centers (RERCs)

AGENCY: Office of Special Education and Rehabilitative Services, Department of Education.

ACTION: Notice of final priorities for DRRPs and RERCs.

SUMMARY: The Assistant Secretary for Special Education and Rehabilitative Services announces certain funding priorities for the Disability and Rehabilitation Research Projects and Centers Program administered by the National Institute on Disability and Rehabilitation Research (NIDRR). Specifically, this notice announces four final priorities for DRRPs and seven priorities for RERCs. The Assistant Secretary may use these priorities for competitions in fiscal year (FY) 2007 and later years. We take this action to focus research attention on areas of national need. We intend these priorities to improve rehabilitation services and outcomes for individuals with disabilities.

Effective Date: These priorities are effective March 16, 2007.

FOR FURTHER INFORMATION CONTACT: Donna Nangle, U.S. Department of Education, 400 Maryland Avenue, SW., room 6030, Potomac Center Plaza, Washington, DC 20202-2700. Telephone: (202) 245-7462 or via Internet: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

We published a notice of proposed priorities (NPP) for NIDRR's Disability and Rehabilitation Research Projects and Centers Program in the Federal Register on September 19, 2006 (71 FR 54870). The NPP included a background statement that described our rationale for each priority proposed in that notice.

In this notice, we are announcing the following priorities for DRRPs and RERCs.

For DRRPs, the priorities are:

• Priority 1—National Data and Statistical Center for the Burn Model Systems.

• Priority 2—Burn Model Systems (BMS) Centers.

• Priority 3—Emergency Evacuation and Individuals with Disabilities.

• Priority 4—Traumatic Brain Injury Model Systems (TBIMS) Centers.

For RERCs, the priorities are:

• Priority 5—RERC for Spinal Cord Injury.

• Priority 6—RERC for Recreational Technologies and Exercise Physiology Benefiting Individuals with Disabilities.

• Priority 7—RERC for Relating Physiological Data and Functional Performance.

• Priority 8—RERC for Accessible Medical Instrumentation.

• Priority 9—RERC for Workplace Accommodations.

• Priority 10—RERC for Rehabilitation Robotics and Telemanipulation Systems.

• Priority 11—RERC for Emergency Management Technologies.

There are differences between the NPP and this notice of final priorities (NFP). Specifically, we have made changes to Priority 3—Inclusive Emergency Evacuation of Individuals with Disabilities, including changing the title to “Emergency Evacuation and Individuals with Disabilities,” and Priority 4—Traumatic Brain Injury Model Systems (TBIMS) Centers. We also have changed the title of Priority 7 from “RERC for Translating Physiological Data into Predictions for Functional Performance” to “RERC for Relating Physiological Data and Functional Performance.”

Analysis of Comments and Changes

In response to our invitation in the NPP, 22 parties submitted comments on the proposed priorities addressed in this NFP. An analysis of the comments and the changes in the priorities since the publication of the NPP follows. We discuss major issues according to general topic questions and priorities.

Generally, we do not address technical and other minor changes, or suggested changes the law does not authorize us to make under the applicable statutory authority. In addition, we do not address general comments that raised concerns not directly related to the proposed priorities.

General

Collaborative Research Module Projects (Priority 2—Burn Model Systems (BMS) Centers and Priority 4—Traumatic Brain Injury Systems (TBIMS) Centers)

Comment: Several commenters requested clarification on the collaborative research module requirements reflected in paragraph (b) of the Burn Model Systems (BMS) Centers priority (Priority 2) and paragraph (b) of the Traumatic Brain Injury Model Systems (TBIMS) Centers priority (Priority 4). In particular, commenters requested more information on the process by which module research projects will be selected for implementation.

Discussion: The priorities for the BMS Centers and the TBIMS Centers require applicants to propose one collaborative research module project and to participate in at least one collaborative research module project. These priorities state that, in conjunction with NIDRR, at the beginning of the funding cycle project directors will select specific modules for implementation from approved applications. The details of this selection process will be based, in part, on input from project directors of funded centers, and, therefore, will not be finalized until after grant awards have been made. As stated in both priorities, decisions regarding selection of module projects for implementation will be made by the project directors of the newly awarded centers in conjunction with NIDRR staff. NIDRR is not requiring applicants to identify collaborators or to have established relationships with such collaborators prior to submitting applications.

Under both priorities, multiple applicants may propose the same, or substantially similar, module projects. In the case of the TBIMS Centers priority, applicants may also propose to continue, refine, or extend an existing collaborative module project. Under both priorities, participation in the module projects will be limited to the funded centers. Because these are peer-reviewed projects, in accordance with NIDRR policies, any substantial changes to project scope (e.g., addition of outside collaborative sites) must be approved by the assigned NIDRR project officer.

Moreover, under both priorities, funded centers may participate in more than one module project. The number and subject of the modules selected for implementation will not be known, however, until after the first Project Directors' meeting. Each successful applicant will work with NIDRR staff to determine if allocations of staffing and budget allow participation in more than one module project. NIDRR recommends that each center set aside up to 15 percent of its budget for participating in module projects.

NIDRR requires that applicants fully develop and present their module research project, identifying research question(s) to be addressed by their projects, along with a description of the importance of the research they intend to conduct and the specific outcomes they hope to achieve through the projects, so that reviewers may determine whether the scope and format of the projects are appropriate.

Changes: None.

Priority 2—Burn Model Systems (BMS) Centers

Comment: Two commenters suggested that NIDRR should require BMS Centers grantees to conduct research on rural areas.

Discussion: While NIDRR agrees that focus on the treatment needs of individuals in rural areas might be an excellent subject for burn research, we do not believe that all applicants should be required to focus on rural areas in their proposals. Nothing in the priority precludes an applicant from suggesting such a research focus. The peer review process will evaluate the merits of individual proposals.

Changes: None.

Comment: One commenter suggested that NIDRR should require BMS Centers grantees to conduct research focused on the measurement of burn outcome.

Discussion: While NIDRR agrees that outcome measures might be an excellent subject for burn research, we do not believe that all applicants should be required to propose projects that focus only on outcomes measurement. Nothing in the priority precludes an applicant from suggesting such a research focus, however. The peer review process will evaluate the merits of the individual proposals.

Changes: None.

Priority 3—Emergency Evacuation and Individuals with Disabilities

Comment: One commenter inquired about the expected level of funding and duration of projects to be supported under this priority.

Discussion: Because funding level and project duration are not subject to public comment, this information was not included in the NPP. We will include information about the expected level of funding and project duration in the notice inviting applications for any competition using this priority.

Changes: None.

Comment: One commenter asked whether the use of the term “inclusive” in this priority means that applicants must include people with all forms of disabilities in their target population. Another commenter suggested that NIDRR change the title of this priority from “Inclusive Emergency Evacuation of Individuals with Disabilities” to “Including Individuals with Disabilities in Emergency Evacuation.”

Discussion: The term “inclusive” is not intended to require applicants to include individuals with all forms of disabilities in their target population(s). Rather, the priority is intended to direct applicants to define the parameters and units of analysis for their proposed activities, including the target population of their project. Applicants may choose to focus on individuals with one or more types of disabilities. It is up to the applicant to explain and justify their proposed target population in their applications. The peer review process will assess the merits of individual applications.

Changes: To clarify that projects funded under this priority are not required to include all forms of disabilities in their target population(s), we have changed the title of this priority from “Inclusive Emergency Evacuation of Individuals with Disabilities” to “Emergency Evacuation and Individuals with Disabilities” and removed other references to the term “inclusive” throughout the priority.

Comment: One commenter requested clarification on whether applicants are required to focus on buildings, transportation systems, and geographic locations, or whether they can select one or more of these areas. The commenter also requested clarification on whether applicants are required to focus on disability-related evacuation devices, plans, exercises, protocols, models, systems, networks, and standards, or whether applicants can focus on one or more of these. The commenter stated that the language in paragraph (a) of the proposed priority is unclear.

Discussion: In each case, applicants may choose one or more of the areas listed. Regardless of the area(s) selected, applicants must clearly define and justify their chosen area(s) of focus in their applications.

Changes: We have revised paragraph (a) of the priority by deleting the term “and,” and inserting the term “or” in both lists of areas of focus. We also have made other editorial, non-substantive revisions to this paragraph in order to clarify it further.

Comment: None.

Discussion: Upon internal review of this priority, NIDRR determined that the phrase “disability-related” in the priority could lead applicants to focus narrowly on disability issues instead of more broadly on emergency management initiatives and evacuation solutions (i.e., evacuation devices, plans, exercises, protocols, models, systems, networks, standards and interventions) that incorporate disability issues.

Changes: We have deleted the phrase “disability-related” from paragraphs (a) and (b) of the priority. We have added the phrase “for individuals with disabilities” to paragraph (b).

Comment: None.

Discussion: Upon internal review of this priority, NIDRR determined that it may not be clear that the phrase “evacuation solutions” as stated in paragraph (b) of the priority refers to the focus areas identified in paragraph (a) (i.e., evacuation devices, plans, exercises, protocols, models, systems, networks, standards, and interventions).

Changes: We have added the phrase “evacuation solutions” to paragraph (a) of the priority to clarify that evacuation devices, plans, exercises, protocols, models, systems, networks, standards, and interventions are all evacuation solutions.

Comment: Two commenters asked NIDRR to clarify the requirement that the DRRP synthesize the current evidence base in the area(s) selected by the grantee. Specifically, the commenters asked: (a) Whether the proposed priority is asking for an assessment of the current evidence base and (b) whether the required synthesis is to be a one-time or ongoing activity.

Discussion: The priority requires a synthesis and assessment of the current evidence base in the area(s) selected by the grantee (e.g., evacuation devices, plans, exercises, protocols, models, systems, networks, standards, or interventions). We expect that this synthesis will develop over the course of the project period. The synthesis should inform implementation of the proposed project and should culminate in a final document that provides a comprehensive assessment of what we know and what research needs remain.

Changes: None.

Comment: One commenter asked whether the requirement that the DRRP synthesize the current evidence base in the area(s) selected by the grantee requires that knowledge translation strategies be addressed.

Discussion: NIDRR is integrating knowledge translation requirements across its research portfolio and does want applicants to address knowledge translation strategies when responding to this priority. For this reason, we think it is important to clarify the role of knowledge translation in the work to be performed under this priority.

Changes: For clarification, we have added an additional requirement in paragraph (b) of the priority. This new requirement directs the DRRP to share findings with the emergency management community and other stakeholders. It will be up to the applicant to propose a specific strategy or method for sharing information with stakeholders. The peer review process will determine the merits of individual proposals.

Comment: One commenter suggested that the priority include the establishment of an electronic clearinghouse of information in order to facilitate dissemination to stakeholders and assist the translation of research into practice.

Discussion: NIDRR agrees that an electronic clearinghouse could be a useful dissemination tool. Applicants may propose to establish an electronic clearinghouse to facilitate the dissemination of research and assist in the translation of research into practice. However, NIDRR does not believe that it would be appropriate to require that every applicant include such a clearinghouse in their proposed project. The peer review process will assess the merits of individual applications.

Changes: None.

Comment: One commenter asked whether the priority mostly focuses on establishing the current state of the science, or solicits ideas for new interventions or enhancement of existing interventions.

Discussion: The priority requires the DRRP to synthesize and assess the evidence base in one or more of the following areas: buildings, transportation systems, or geographic locations. It also requires the DRRP to advance the evidence base in one or more of these areas. We intend for the priority to allow for the generation of ideas for new interventions or enhancements of existing interventions. Applicants may choose their area(s) of focus.

Changes: In order to clarify our intent, we have reworded paragraph (a) of the priority to incorporate a requirement related to advancing the current evidence base. We also have added the word “interventions” to this paragraph to clarify that applicants may suggest new interventions or enhancements of existing interventions.

Comment: One commenter asked whether the requirement to examine barriers and facilitators to effective implementation of disability-related evacuation solutions within existing emergency management initiatives suggests a research and evaluation component to this priority.

Discussion: The intended outcome of requirement (b)(1) of this priority is that the DRRP will add to the evidence base about factors that help or hinder the inclusion of individuals with disabilities in existing emergency evacuation plans. We anticipate that, in order to add to the current evidence base about these factors, grantees will need to conduct research. Evaluation activities also may be required, depending on the area of focus chosen by the applicant. It is up to the applicant to define and justify area(s) of focus. The peer review process will determine the merits of individual proposals.

Changes: None.

Comment: One commenter stated that in order to develop inclusive evacuation plans, people with disabilities should be included in the planning process. The commenter stated that the DRRP should include research on ways in which people with disabilities can participate in the planning processes at a macro and micro level.

Discussion: NIDRR agrees that including individuals with disabilities in the planning process is a sound approach. As noted in the NPP and elsewhere in this notice, NIDRR intends to require all DRRP applicants under this priority to meet the requirements of the General Disability and Rehabilitation Research Projects (DRRP) Requirements priority that it published in a notice of final priorities in the Federal Register on April 28, 2006 (71 FR 25472). Under the General DRRP Requirements priority, each applicant must involve individuals with disabilities in planning and implementing the DRRP's research, training, and dissemination activities, and evaluating its work. It is up to the applicant to propose how it will meet this requirement and the peer reviewers will assess the merits of each individual proposal.

Changes: None.

Comment: One commenter stated that State and local safety codes may present barriers to inclusive, effective evacuation of people with disabilities. The commenter recommended that the priority require grantees to investigate the impact of these codes and how they interact with applicable nondiscrimination requirements of legislation such as the Americans with Disabilities Act of 1990, as amended.

Discussion: NIDRR agrees that State and local safety codes may present barriers to inclusive, effective evacuation of individuals with disabilities. This may be an appropriate focus of research; nothing in the priority precludes an applicant from proposing to examine these variables. However, NIDRR does not believe that it would be appropriate to require every applicant to examine these codes and their effect on including individuals with disabilities in effective evacuation plans. The peer review process will assess the merits of each individual proposal.

Changes: None.

Comment: One commenter recommended that an important outcome of the proposed DRRP would be engagement and collaboration with the emergency management community, emergency technology providers, and end users to develop inclusive communication plans in their respective emergency management protocols.

Discussion: NIDRR agrees with this comment, and believes that the priority includes this focus. The priority states that the DRRP must be designed to contribute to the outcome of increased implementation of evacuation solutions for individuals with disabilities within existing emergency management initiatives, and requires meaningful and sustained collaboration with a variety of stakeholders, including mainstream emergency management professionals.

Changes: None.

Comment: One commenter recommended that the proposed priority be changed to use a functional definition of disability. The commenter stated that condition-specific definitions of disability may not be appropriate in the disaster management context and that it is important to think broadly about disability in terms of function, and not impairment or diagnosis.

Discussion: Consistent with the definition of “disability” that applies to title II of the Rehabilitation Act of 1973, as amended, NIDRR agrees that a broad view of disability is appropriate. However, we wish to retain the requirement that applicants specify the target populations (e.g., individuals with physical, sensory or mental impairments) of their proposed project in order to emphasize the breadth of populations that could be included in the target population(s) of the work to be performed under this priority. However, this does not mean that applicants may not choose to use a functional definition of disability in their application. Applicants are free to define the target population(s) of their proposed project and to justify the population(s) as they deem appropriate. The peer review process will determine the merits of individual proposals.

Changes: None.

Comment: One commenter suggested that the priority specifically include research to support evacuation planning, preparation, and strategies that fully account for the broad population of individuals who are blind or visually impaired (including seniors with vision loss, people with multiple disabilities, and individuals who are ethnically or linguistically diverse).

Discussion: This priority is intentionally stated as broadly as possible in order to enable applicants with varying focus areas to apply. Nothing in the priority would preclude an applicant from including individuals with vision loss as their target population; the priority states that applicants must define their target population (e.g., individuals with physical, sensory, or mental impairments). NIDRR does not believe that it would be appropriate to require that all applicants include individuals with vision loss in their target populations.

Changes: None.

Comment: One commenter stated that, as currently written, the Inclusive Emergency Evacuation of Individuals with Disabilities priority could be interpreted as requiring the synthesis and assessment of technological evidence (i.e., highway width, design capacity specifications, building standards, etc.) or systemic evidence (i.e., improved communication plans, guidelines or annexes among best practices of disaster management, training modules, etc.). The commenter asked which of these two types of evidence the priority seeks to address.

Discussion: The priority is broadly stated, permitting applicants to choose their area(s) of focus, and, hence, the types of evidence they synthesize and assess. Applicants may propose to focus their research on any one or more of the following: evacuation solutions—evacuation devices, plans, exercises, protocols, models, systems, networks, standards and interventions. It is up to the applicant to define and justify their chosen area(s). The peer review process will evaluate the merits of individual proposals.

Changes: None.

Comment: One commenter stated that it would be better for the Department of Homeland Security (DHS) to fund the research described in the Inclusive Emergency Evacuation of Individuals with Disabilities priority. The commenter stated that DHS has specific responsibility in this area, has research programs and portfolios that are appropriate to this topic, and has funding capability via the Federal Emergency Management Agency. The commenter added that emergency management targeted to people with disabilities should be a mainstream activity of DHS and that funding through DHS would facilitate the rapid adoption of findings and products.

Discussion: This DRRP fits within NIDRR's research agenda, which includes a growing portfolio of research to improve outcomes for individuals with disabilities in emergency and disaster situations. In addition, NIDRR chairs the Research Subcommittee of the DHS Interagency Coordinating Council on Emergency Preparedness and Individuals with Disabilities. As such, in developing this priority, NIDRR worked collaboratively with representatives of DHS as well as seven other Federal agencies. The priority requires applicants to demonstrate how they plan to implement a sustained, meaningful and integrated collaboration with a variety of stakeholders, including relevant Federal agencies and members of DHS's Interagency Coordinating Council on Emergency Preparedness and Individuals with Disabilities.

Changes: None.

Priority 4—Traumatic Brain Injury Model Systems (TBIMS) Centers

Comment: Two commenters expressed concern that the proposed TBIMS Centers priority would be understood by applicants to favor local projects that conduct intervention trials over projects that conduct diagnostic and prognostic studies. These commenters expressed concern that local projects that conduct intervention trials are likely to lack the sample sizes necessary to ensure adequate statistical power and generalizability of the research findings.

Discussion: Under this priority applicants may propose to test innovative approaches to treatment and evaluation of traumatic brain injury (TBI) outcomes; however, NIDRR suggests that applicants also may consider the ways in which prognostic or diagnostic research can support the development of interventions that improve outcomes for persons with TBI. Nothing in the priority prohibits an applicant from proposing such prognostic or diagnostic research projects. The peer review process will evaluate the merits of each individual proposal.

Changes: None.

Comment: One commenter requested that the TBIMS Centers priority be modified to include an indication of how the 35-case-minimum (for enrollment in the TBIMS database) will be enforced. The commenter explained that the inclusion of this information in the priority would serve to discourage applicants from artificially inflating their estimate of TBIMS database enrollment in the application.

Discussion: NIDRR expects that all applicants will make a good faith estimate of the number of people to be enrolled in the TBIMS database based on clinical enrollment rates at their respective institutions, accounting for expected refusals and attrition. Monitoring and enforcement of funded activities, including the number of persons enrolled in the TBIMS database, is the post-award responsibility of NIDRR staff.

Changes: None.

Comment: One commenter noted that the TBIMS Centers priority does not address whether collaborative research module projects developed under the last funding cycle of this program would be eligible for funding under this priority.

Discussion: Grants under this priority will provide funds for collaborative research module projects that meet the requirements of the priority and are selected for implementation. Nothing in the TBIMS Centers priority prohibits an applicant from proposing a continuation or extension of a collaborative research module project that was funded in the last funding cycle of the TBIMS program. The peer review process will evaluate the merits of individual proposals.

Changes: None.

Comment: One commenter requested that the TBIMS Centers priority explicate the process by which module research projects will be selected for implementation.

Discussion: We discuss the process by which module research projects proposed under this priority will be selected for implementation under the heading Collaborative Research Module Projects (Priority 2—Burn Model Systems (BMS) Centers and Priority 4—Traumatic Brain Injury Model Systems (TBIMS) Centers) elsewhere in this notice.

Changes: None.

Comment: One commenter inquired about the components of the required multidisciplinary system of care designed to meet the needs of individuals with TBI, stating that emergency medical services or Level 1 trauma centers were not explicitly mentioned in the TBIMS Centers priority.

Discussion: As explained in the background statement for the TBIMS Centers priority in the NPP, each TBIMS center funded under this program should be designed to offer a multidisciplinary system for providing rehabilitation services specifically designed to meet the special needs of individuals with TBI. These services span the continuum of treatment from acute care through community re-entry. Paragraph (1) of the priority also makes clear that a TBIMS Center must “provide a multidisciplinary system of rehabilitation care specifically designed to meet the needs of individuals with TBI. The system must encompass a continuum of care, including emergency medical services, acute care services, acute medical rehabilitation services, and post-acute services.” While NIDRR agrees that Level 1 trauma centers can play a key role in this system, NIDRR has no basis for requiring that applicants provide Level 1 trauma center care. The peer review process will evaluate the merits of individual proposals.

Changes: None.

Comment: One commenter expressed concern about the under-representation of persons from minority and lower socioeconomic backgrounds in some TBIMS research. The commenter recommended that NIDRR more strongly encourage the inclusion of underserved populations in research conducted by the TBIMS Centers.

Discussion: NIDRR agrees that members of underserved populations with TBI experience greater challenges in receiving health care services and are generally in poorer health. NIDRR does encourage the inclusion of underserved populations in the research funded through the TBIMS program. Nothing in the TBIMS Centers priority prohibits an applicant from proposing to include members of underserved populations in the proposed research. The peer review process will evaluate the merits of individual proposals.

Changes: None.

Comment: None.

Discussion: Paragraph (2) of the TBIMS Centers priority requires that all TBIMS Centers coordinate with the NIDRR-funded Model Systems Knowledge Translation Center to provide scientific results and information for dissemination to clinical and consumer audiences. Since the publication of the NPP, the NIDRR-funded Model Systems Knowledge Translation Center has been established. Information about the newly funded Model Systems Knowledge Translation Center can be found at the following Web site: http://uwctds.washington.edu/projects/msktc.asp.

Changes: We have revised paragraph (2) of the priority by adding the following Web site address for the NIDRR-funded Model Systems Knowledge Translation Center: http://uwctds.washington.edu/projects/msktc.asp.

Comment: None.

Discussion: In the NPP, the background statement for the proposed TBIMS Centers priority stated that additional information regarding the TBIMS database, which is maintained by the NIDRR-funded National Data and Statistical Center for the TBIMS can be found at http://tbindc.org. Please note that, since the publication of the NPP, the NIDRR-funded TBIMS National Data and Statistical Center has been awarded to a different institution, and the associated Web site address has changed to http://www.tbindsc.org.

Changes: None.

Priorities 5, 6, 7, 8, 9, 10, and 11—Rehabilitation Engineering Research Centers (RERCs)

Comment: One commenter stated that the RERC for Recreational Technologies and Exercise Physiology Benefiting Individuals with Disabilities priority should specifically address the needs of people with sensory disabilities.

Discussion: NIDRR agrees that the recreational and fitness needs of individuals with sensory disabilities are important. Nothing in this priority prohibits an applicant from proposing to address the needs of individuals with sensory disabilities through its proposed project; the peer review process will evaluate the merits of the proposal. However, NIDRR does not believe that it would be appropriate to require that all applicants address sensory disabilities through their proposed projects.

Changes: None.

Comment: One commenter stated that the RERC for Recreational Technologies and Exercise Physiology Benefiting Individuals with Disabilities priority should specifically address exercise programs for people with disabilities.

Discussion: NIDRR agrees that the development of exercise programs for individuals with disabilities may lead to better health outcomes and increased access to and participation in physical fitness activities. An applicant could propose to address exercise programs for individuals with disabilities; the peer review process will evaluate the merits of individual proposals. However, NIDRR does not believe that it would be appropriate to require all applicants under this priority to propose to address exercise programs for individuals with disabilities.

Changes: None.

Comment: One commenter stated that the RERC for Translating Physiological Data into Predictions for Functional Performance priority should address mobility aids (e.g., canes and guide dogs) used by adults with low vision and blindness.

Discussion: NIDRR agrees that research and demonstration activities on mobility aids may help to improve ambulation and access by people with low vision and blindness. An applicant could propose to address mobility aids used by adults with low vision and blindness through its proposed project and the peer review process will evaluate the merits of the proposal. However, NIDRR does not believe that it would be appropriate to require that all applicants address mobility aids used by adults with low vision and blindness in their proposed projects.

Changes: None.

Comment: One commenter stated that the RERC for Translating Physiological Data into Predictions for Functional Performance priority is too restrictive because it limits the relationship between physiological measures and functional performance to prediction only. This commenter expressed concern that the title of the proposed priority contributes to this narrow focus.

Discussion: NIDRR agrees with the commenter. Models and methods for understanding the various relationships between physiological data and functional performance are in need of development. An applicant could propose to address other components of the relationship between physiological measures and functional performance; the peer review process will evaluate the merits of the individual proposals. For the sake of clarity, NIDRR will change the title of this priority.

Changes: The title of this priority area has been changed from “RERC for Translating Physiological Data into Predictions for Functional Performance” to “RERC for Relating Physiological Data and Functional Performance.”

Comment: One commenter believes that the RERC for Accessible Medical Instrumentation priority should focus on monitoring devices used for self-care by people with disabilities and that the RERC should be responsible for standards development for monitoring devices used for self-care by people with disabilities.

Discussion: NIDRR agrees that research and development in the area of monitoring devices used for self-care by individuals with disabilities is needed. An applicant could propose to address monitoring devices used for self-care by individuals with disabilities; the peer review process will evaluate the merits of the proposal. However, NIDRR does not believe that it would be appropriate to require that all applicants address monitoring devices used for self-care by individuals with disabilities through their proposed projects. If an applicant proposes to address monitoring devices used for self-care by individuals with disabilities, it must remember that it will be required to provide technical assistance to public and private organizations responsible for developing policies, guidelines, and standards that affect this area of research.

Changes: None.

Comment: One commenter stated that the RERC for Workplace Accommodations priority should specifically recognize that the workplace is a dynamic, ever-changing environment where effective accommodations may change over time.

Discussion: NIDRR agrees that the workplace is a dynamic environment where accommodations at the individual level may not be sufficient for the human-work environment system. As employee job functions and responsibilities change, the employee and accommodations must be able to adapt effectively. An applicant under this priority could propose to address this aspect of workplace accommodations through its proposed project; the peer review process will evaluate the merits of individual proposals. However, NIDRR does not believe that it would be appropriate to require all applicants to address this aspect of workplace accommodations in their proposals.

Changes: None.

Comment: One commenter stated that the RERC for Workplace Accommodations priority should specifically address individuals with environmental illness and that it should require the study of the impact of personal assistance services on employment barriers.

Discussion: Nothing in the RERC for Workplace Accommodations priority prohibits an applicant from proposing to address environmental illness in the workplace or to study the impact of personal assistance services on employment barriers; the peer review process will evaluate the merits of individual proposals received under this priority. NIDRR does not believe that it would be appropriate to require that all applicants propose to address environmental illness or to study the impact of personal assistance services on employment barriers.

Changes: None.

Comment: One commenter stated that the RERC for Rehabilitation Robotics and Telemanipulation Systems priority should be expanded to include robotic aids for mobility, education, and manipulation.

Discussion: Nothing in this priority prohibits an applicant from proposing to investigate intelligent mobility aids. NIDRR does not believe, however, that it would be appropriate to require all applicants to investigate intelligent mobility aids under this priority. The peer review process will evaluate the merits of individual proposals.

Changes: None.

Comment: One commenter stated that the RERC for Emergency Management Technologies priority should address specifically the inter-operability of communications platforms, and digital emergency alert systems, and that it should involve the Federal, State, and local emergency management communities.

Discussion: NIDRR recognizes that compatible communications, digital emergency alert systems, and the involvement of the Federal, State, and local emergency management communities are critical to effective emergency management communications. That said, NIDRR does not believe that it would be appropriate to require all applicants under this priority to address inter-operability issues or digital alert systems, or to involve Federal, State, and local emergency management communities through their proposed projects. Nothing prohibits an applicant from proposing to address compatible communications, or digital emergency alert systems, or to involve the Federal, State, and local emergency management communities; the peer review process will evaluate the merits of individual proposals.

Changes: None.

Note: This notice does not solicit applications. In any year in which we choose to use one or more of these priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: This NFP is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priorities

Disability and Rehabilitation Research Projects (DRRP) Program

The purpose of the DRRP program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

National Data and Statistical Center for the Burn Model Systems

Priority

The Assistant Secretary for Special Education and Rehabilitative Services establishes a priority for the establishment of a National Data and Statistical Center for the Burn Model Systems (National BMS Data Center). The National BMS Data Center must advance medical rehabilitation by increasing the rigor and efficiency of scientific efforts to assess the experience of individuals with burn injury. To meet this priority, the National BMS Data Center's research and technical assistance must be designed to contribute to the following outcomes:

(a) Maintenance of a national longitudinal database (BMS Database) for data submitted by each of the Burn Model Systems centers (BMS Centers). This database must provide for confidentiality, quality control, and data-retrieval capabilities, using cost-effective and user-friendly technology.

(b) High-quality, reliable data in the BMS Database. The National BMS Data Center must contribute to this outcome by providing training and technical assistance to BMS Centers on subject retention and data collection procedures, data entry methods, and appropriate use of study instruments, and by monitoring the quality of the data submitted by the BMS Centers.

(c) Rigorous research conducted by BMS Centers. To help in the achievement of this outcome, the National BMS Data Center must make statistical and other methodological consultation available for research projects that use the BMS Database, as well as center-specific and collaborative projects of the BMS program.

(d) Improved efficiency of the BMS Database operations. The National BMS Data Center must pursue strategies to achieve this outcome, such as collaborating with the National Data and Statistical Center for Traumatic Brain Injury Model Systems, the National Data and Statistical Center for Spinal Cord Injury Model Systems, and the Model Systems Knowledge Translation Center.

Burn Model Systems (BMS) Centers

Priority

The Assistant Secretary for Special Education and Rehabilitative Services establishes a priority for the funding of Burn Model Systems (BMS) centers (BMS Center) under the Disability and Rehabilitation Research Projects (DRRP) Program to conduct research that contributes to evidence-based rehabilitation interventions and clinical as well as practice guidelines that improve the lives of individuals with burn injury. Each BMS Center must—

(a) Contribute to continued assessment of long-term outcomes of burn injury by enrolling at least 30 subjects per year into the national longitudinal database for BMS data maintained by the National Data and Statistical Center for the BMS, following established protocols for the collection of enrollment and follow-up data on subjects;

(b) Contribute to improved outcomes for individuals with burn injury by proposing one collaborative research module project and participating in at least one collaborative research module project, which may range from pilot research to more extensive studies; and

(c) Contribute to improved long-term outcomes of individuals with burn injury by conducting no more than two site-specific research projects to test innovative approaches that contribute to rehabilitation interventions and evaluating burn injury outcomes in accordance with the focus areas identified in NIDRR's Final Long-Range Plan for FY 2005-2009 (Plan). Applicants who propose more than two site-specific projects will be disqualified.

In carrying out these activities, each BMS Center may select from the following research domains related to specific areas of the Plan: Health and function, employment, participation and community living, and technology for access and function.

In addition, each BMS Center must—

(1) Provide a multidisciplinary system of rehabilitation care specifically designed to meet the needs of individuals with burn injury. The system must encompass a continuum of care, including emergency medical services, acute care services, acute medical rehabilitation services, and post-acute services; and

(2) Coordinate with the NIDRR-funded Model Systems Knowledge Translation Center to provide scientific results and information for dissemination to clinical and consumer audiences.

Emergency Evacuation and Individuals with Disabilities

Priority

The Assistant Secretary for Special Education and Rehabilitative Services announces a priority for a Disability Rehabilitation Research Project (DRRP) on Emergency Evacuation and Individuals with Disabilities. This DRRP must conduct research that contributes to improved outcomes for individuals with disabilities in emergencies and disasters. Under this priority, the DRRP must be designed to contribute to the following outcomes:

(a) Increased evidence-based knowledge about the emergency evacuation of individuals with disabilities from one or more of the following areas: buildings; transportation systems; or geographic locations (e.g., cities and States). The DRRP must contribute to this outcome by synthesizing, assessing, and advancing the current state of evidence-based knowledge within the area(s) chosen above. This must include a focus on one or more of the following evacuation solutions— evacuation devices, plans, exercises, protocols, models, systems, networks, standards, or interventions. Research activities must be designed with the goal of achieving reliable, usable, accessible, safe, effective, and emergency evacuation for individuals with disabilities.

(b) Increased implementation of evacuation solutions for individuals with disabilities within existing emergency management initiatives. The DRRP must contribute to this outcome by— (1) examining barriers and facilitators to incorporating disability-related evacuation solutions within existing emergency management initiatives; (2) sharing findings from this DRRP with the emergency management community and other key stakeholders; and (3) collaborating with the emergency management community and other key stakeholders to propose solutions to identified barriers.

In addition to the above outcomes, applicants must:

• Define, in their applications, the parameters and units of analysis for their proposed activities. Applications must include a description of each of the following: (1) Type(s) of evacuation (i.e., evacuation from buildings, transportation systems, geographic locations such as cities or States); (2) target population(s) (e.g., individuals with physical, sensory, mental impairments); and (3) type(s) of evacuation solutions (e.g., evacuation devices, plans, exercises, protocols, models, systems, networks, standards, interventions).

• Demonstrate in their applications how they plan to implement a sustained, meaningful, and integrated collaboration throughout the project with key stakeholders. These may include but are not limited to: (1) disability and aging advocates and organizations, disability subject matter experts, and qualified individuals with disabilities; (2) fire engineers, homeland security and preparedness personnel, and other mainstream emergency management professionals and associations; (3) industry, standard-setting organizations, and other relevant stakeholders involved in standards development; (4) researchers (including researchers working on projects funded by NIDRR, other government agencies, and researchers in the private sector); and (5) relevant Federal agencies, including but not limited to those participating in the Interagency Coordinating Council on Emergency Preparedness and Individuals with Disabilities.

Traumatic Brain Injury Model Systems (TBIMS) Centers

Priority

The Assistant Secretary for Special Education and Rehabilitative Services establishes a priority for Traumatic Brain Injury Model Systems (TBIMS) centers under the Disability and Rehabilitation Research Projects (DRRP) program to conduct research that contributes to evidence-based rehabilitation interventions which improve the lives of individuals with traumatic brain injury (TBI). Each TBIMS center must contribute to the following outcomes:

(a) Continued assessment of long-term outcomes of TBI by enrolling at least 35 subjects per year into the longitudinal portion of the TBIMS database maintained by the National Data and Statistical Center for the TBIMS, following established protocols for the collection of enrollment and follow-up data on subjects.

(b) Improved outcomes for individuals with TBI by proposing one collaborative research module project and participating in at least one collaborative research module project, which may range from pilot research to more extensive studies (at the beginning of the funding cycle, the TBIMS directors, in conjunction with NIDRR, will select specific modules for implementation from the approved applications).

(c) Improved long-term outcomes of individuals with TBI by conducting no more than two site-specific research projects to test innovative approaches that contribute to rehabilitation interventions and evaluating TBI outcomes in accordance with the focus areas identified in NIDRR's Long-Range Plan for FY 2005-2009 (Plan). Applicants who propose more than two site-specific projects will be disqualified.

In carrying out each of these research activities, each TBIMS Center may select from the following research domains related to specific areas of the Plan: Health and Function, Employment, Participation and Community Living, and Technology for Access and Function.

In addition, each TBIMS Center must—

(1) Provide a multidisciplinary system of rehabilitation care specifically designed to meet the needs of individuals with TBI. The system must encompass a continuum of care, including emergency medical services, acute care services, acute medical rehabilitation services, and post-acute services; and

(2) Coordinate with the NIDRR-funded Model Systems Knowledge Translation Center to provide scientific results and information for dissemination to clinical and consumer audiences. (Additional information on this center can be found at http://uwctds.washington.edu/projects/msktc.asp). Rehabilitation Engineering Research Centers Program

General Requirements of Rehabilitation Engineering Research Centers (RERCs)

RERCs carry out research or demonstration activities in support of the Rehabilitation Act of 1973, as amended, by—

• Developing and disseminating innovative methods of applying advanced technology, scientific achievement, and psychological and social knowledge to: (a) Solve rehabilitation problems and remove environmental barriers; and (b) study and evaluate new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of consumer-responsive and individual and family-centered innovative models for the delivery to both rural and urban areas of innovative cost-effective rehabilitation technology services; and (b) other scientific research to assist in meeting the employment and independence needs of individuals with severe disabilities.

Each RERC must be operated by or in collaboration with one or more institutions of higher education or one or more nonprofit organizations.

Each RERC must provide training opportunities, in conjunction with institutions of higher education and nonprofit organizations, to assist individuals, including individuals with disabilities, to become rehabilitation technology researchers and practitioners.

Additional information on the RERC program can be found at: http://www.ed.gov/rschstat/research/pubs/index.html.

Rehabilitation Engineering Research Centers (RERCs) for Spinal Cord Injury, Recreational Technologies and Exercise Physiology Benefiting Individuals with Disabilities, Relating Physiological Data and Functional Performance, Accessible Medical Instrumentation, Workplace Accommodations, Rehabilitation Robotics and Telemanipulation Systems, and Emergency Management Technologies

Priorities

The Assistant Secretary for Special Education and Rehabilitative Services establishes seven priorities for the establishment of (a) an RERC for Spinal Cord Injury, (b) an RERC for Recreational Technologies and Exercise Physiology Benefiting Individuals with Disabilities, (c) an RERC for Relating Physiological Data and Functional Performance, (d) an RERC for Accessible Medical Instrumentation, (e) an RERC for Workplace Accommodations, (f) an RERC for Rehabilitation Robotics and Telemanipulation Systems, and (g) an RERC for Emergency Management Technologies. Within its designated priority research area, each RERC will focus on innovative technological solutions, new knowledge, and concepts that will improve the lives of persons with disabilities.

(a) RERC for Spinal Cord Injury.

Under this priority, the RERC must research, develop and evaluate innovative technologies and approaches that will improve the treatment, rehabilitation, employment, and reintegration into society of persons with spinal cord injury. This RERC must work collaboratively with the NIDRR-funded Spinal Cord Injury Model Systems Centers program;

(b) RERC for Recreational Technologies and Exercise Physiology Benefiting Individuals with Disabilities.

Under this priority, the RERC must research, develop, and evaluate innovative technologies and strategies that will enhance recreational opportunities for individuals with disabilities and develop methods to enhance the physical performance of individuals with disabilities.

(c) RERC for Relating Physiological Data and Functional Performance.

Under this priority, the RERC must determine the physiological measurement tools that are available in a specific sub-specialty of rehabilitation. A sub-specialty may be based on underlying disabling condition (e.g., spinal cord injury, and Parkinson's disease), or on specific sequelae that may be common to a wide variety of disabling conditions (e.g., pain, spasticity). The RERC must then develop and evaluate models and methods for determining the relationships between basic physiological measurements and functional performance. These models and methods must take the characteristics of individuals and their environments into consideration when attempting to delineate these relationships, so that the results of this research are relevant to clinical practice and the real-world experiences of individuals with disabilities.

(d) RERC for Accessible Medical Instrumentation.

Under this priority, the RERC must research, develop, and evaluate innovative methods and technologies to increase the usability and accessibility of diagnostic, therapeutic, and procedural healthcare equipment (e.g., equipment used during medical examinations, and treatment) for individuals with disabilities. This includes developing methods and technologies that are useable and accessible for patients and health care providers with disabilities.

(e) RERC for Workplace Accommodations.

Under this priority, the RERC must research, develop, and evaluate innovative technologies and implementation plans, devices, and systems to enhance the productivity of individuals with disabilities in the workplace. This RERC must emphasize the application of universal design concepts to improve the accessibility of the workplace and workplace tools for all workers.

(f) RERC for Rehabilitation Robotics and Telemanipulation Systems.

Under this priority, the RERC must research, develop, and evaluate human-scale robots and telemanipulation systems that will provide or perform rehabilitation therapies and address the unique needs of individuals with disabilities.

(g) RERC for Emergency Management Technologies.

Under this priority, the RERC must research, develop, and evaluate existing and innovative emergency management technologies to enhance emergency outcomes for individuals with disabilities. Areas of focus within this priority research area may include but are not limited to communications, transportation, evacuation, and other areas related to emergency preparedness, response, and recovery. In addition, this RERC must provide input and expertise into the development of standards to improve emergency management for individuals with disabilities. This RERC must work collaboratively with the NIDRR-funded Disability and Rehabilitation Research Project: Emergency Evacuation and Individuals with Disabilities.

Under each priority, the RERC must be designed to contribute to the following programmatic outcomes:

(1) Increased technical and scientific knowledge-base relevant to its designated priority research area. The RERC must contribute to this outcome by conducting high-quality, rigorous research and development projects.

(2) Innovative technologies, products, environments, performance guidelines, and monitoring and assessment tools as applicable to its designated priority research area. The RERC must contribute to this outcome by developing and testing these innovations.

(3) Improved research capacity in its designated priority research area. The RERC must contribute to this outcome by collaborating with the relevant industry, professional associations, and institutions of higher education.

(4) Improved focus on cutting edge developments in technologies within its designated priority research area. The RERC must contribute to this outcome by identifying and communicating with NIDRR and the field regarding trends and evolving product concepts related to its designated priority research area.

(5) Increased impact of research in the designated priority research area. The RERC must contribute to this outcome by providing technical assistance to public and private organizations, individuals with disabilities, and employers on policies, guidelines, and standards related to its designated priority research area.

In addition, under each priority, the RERC must—

• Have the capability to design, build, and test prototype devices and assist in the transfer of successful solutions to relevant production and service delivery settings;

• Evaluate the efficacy and safety of its new products, instrumentation, or assistive devices;

• Provide as part of its proposal and then implement a plan that describes how it will include, as appropriate, individuals with disabilities or their representatives in all phases of its activities, including research, development, training, dissemination, and evaluation;

• Provide as part of its proposal and then implement, in consultation with the NIDRR-funded National Center for the Dissemination of Disability Research (NCDDR), a plan to disseminate its research results to individuals with disabilities, their representatives, disability organizations, service providers, professional journals, manufacturers, and other interested parties;

• Develop and implement in the first year of the project period, in consultation with the NIDRR-funded RERC on Technology Transfer, a plan for ensuring that all new and improved technologies developed by the RERC are successfully transferred to the marketplace;

• Conduct a state-of-the-science conference on its designated priority research area in the fourth year of the project period and publish a comprehensive report on the final outcomes of the conference in the fifth year of the project period; and

• Coordinate research projects of mutual interest with relevant NIDRR-funded projects, as identified through consultation with the NIDRR project officer.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of Potential Costs and Benefits

The benefits of the Disability and Rehabilitation Research Projects and Centers Programs have been well established over the years in that similar projects have been completed successfully. These final priorities will generate new knowledge and technologies through research, development, dissemination, utilization, and technical assistance projects.

Another benefit of these final priorities is that the establishment of new DRRPs and new RERCs will support the President's NFI and will improve the lives of persons with disabilities. The new DRRPs and RERCs will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Numbers 84.133A Disability Rehabilitation Research Projects and 84.133E Rehabilitation Engineering Research Centers Program)

Program Authority: 29 U.S.C. 762(g), 764(a), 764(b)(2), and 764(b)(3).

Dated: February 5, 2007.
John H. Hager,
Assistant Secretary for Special Education and Rehabilitative Services.

[FR Doc. E7-2349 Filed 2-13-07; 8:45 am]

BILLING CODE 4000-01-P